DEPARTMENT OF ENERGY

Federal Energy Regulatory Commission

[Docket No. AD15-5-000]

Available Transfer Capability Standards for Wholesale Electric Transmission Services; Supplemental Notice of Workshop—New Date

As discussed in prior notices, the Federal Energy Regulatory Commission (Commission) staff will hold a workshop to discuss standards for calculating Available Transfer Capability (ATC) for wholesale electric transmission services.¹ In light of the inclement weather occurring on the originally proposed date, the workshop is rescheduled for Tuesday, April 21, 2015.

¹ Prior Notices were issued on December 30, 2014, and January 30 and February 27, 2015.

The workshop is prompted by the filing by the North American Electric Reliability Corporation (NERC) proposing changes to its ATC-related reliability standards,² and the initiative to replace these standards with similarly focused business practice standards to be developed by the North American Energy Standards Board (NAESB).³

² NERC's proposal is currently pending before the Commission in the rulemaking: Modeling, Data, and Analysis Reliability Standards, Notice of Proposed Rulemaking, Docket No. RM14-7-000; 79 FR 36269 (June 26, 2014). While this workshop is not convened for the purpose of discussing specific cases, the workshop may address matters that are at issue in the NERC proceeding.

³ See, e.g., the December 18, 2014 status report filed by NAESB in Docket Nos. RM05-5-000 and RM14-7-000.

The workshop will commence at 12:00 noon and conclude by 4:15 p.m., EST. The workshop will be held in the Commission Meeting Room at the Federal Energy Regulatory Commission, 888 First Street NE., Washington, DC, 20426. Commission members may participate in the workshop.

This Notice contains an Agenda that is materially the same as the Updated Agenda previously issued in this docket. However, specific details may change as Commission staff finalizes the agenda, including the list of featured speakers, times of the session discussions or details of the topics to be discussed. The Commission will issue an additional Notice as needed. This workshop is free of charge and open to the public. Commission members may participate in the workshop.

Those who plan to attend the workshop are encouraged to complete the registration form located at: https://www.ferc.gov/whats-new/registration/04-21-15-form.asp. There is no registration deadline.

Transcripts of the workshop will be available for a fee from Ace-Federal Reporters, Inc. (202-347-3700). Additionally, there will be a free webcast of the workshop. Anyone with Internet access who wants to listen to the workshop can do so by navigating to the Calendar of Events at www.ferc.gov, locating the technical workshop in the Calendar, and clicking on the webcast link. The Capitol Connection provides technical support for the webcast and offers the option of listening to the workshop via phone-bridge for a fee. If you have any questions, visit www.CapitolConnection.org or call 703-993-3100.

Commission workshops are accessible under section 508 of the Rehabilitation Act of 1973. For accessibility accommodations, please send an email to accessibility@ferc.gov or call toll free 1-866-208-3372 (voice) or 202-502-8659 (TTY), or send a FAX to 202-208-2106 with the required accommodations.

For further information on this workshop, please contact: Logistical Information, Sarah McKinley, Office of External Affairs, Federal Energy Regulatory Commission, 888 First Street NE., Washington, DC 20426, (202) 502-8368, sarah.mckinley@ferc.gov; Technical Information, Christopher Young, Office of Energy Policy and Innovation, Federal Energy Regulatory Commission, 888 First Street NE., Washington, DC 20426, (202) 502-6403, christopher.young@ferc.gov; Legal Information, Richard Wartchow, Office of the General Counsel, Federal Energy Regulatory Commission, 888 First Street NE., Washington, DC 20426, (202) 502-8744, richard.wartchow@ferc.gov.

Dated: March 31, 2015.
Kimberly D. Bose,
Secretary.

[FR Doc. 2015-07794 Filed 4-3-15; 8:45 am]

BILLING CODE 6717-01-P